DEPARTMENT OF AGRICULTURE

Rural Utilities Service

[Docket #: RUS-24-TELECOM-0011]

Distance Learning and Telemedicine (DLT) Program: Virtual Public Listening Session

AGENCY: Rural Utilities Service, USDA.

ACTION: Notice.

SUMMARY: The Rural Utilities Service (RUS), an Agency of the Rural Development (RD) mission area within the United States Department of Agriculture (USDA), is hosting a virtual public listening session to obtain stakeholder feedback about the Distance Learning and Telemedicine (DLT) program. This competitive program helps rural communities use advanced telecommunications technology to connect to each other—and the world—overcoming the effects of remoteness and low population density. The sessions are open to the public and provide an opportunity for stakeholders and other interested parties to offer their comments and input on the DLT program.

DATES: The virtual listening sessions will be held virtually on the following dates and times:

Tuesday, June 11, 2024, 1:30-3 p.m. EST

Tuesday, June 18, 2024, 1:30-3 p.m. EST

Comments must be submitted by 11:59 p.m. eastern standard time (EST) on June 19th, 2024, on www.regulations.gov.

ADDRESSES: Registration is required for each virtual public listening session. To register, please visit www.rd.usda.gov/programs-services/telecommunications-programs/distance-learning-telemedicine-grants. A confirmation email, including the Zoom link and teleconference information for the meeting will be sent upon receipt of registration.

Comments may be submitted electronically by the Federal eRulemaking Portal, www.regulations.gov. In the “Search for dockets and documents on agency actions” box, enter the docket number “RUS-24-TELECOM-0011,” and click the “Search” button. From the search results: click on or locate the document title: “Distance Learning and Telemedicine (DLT) program: Virtual Public Listening Session” and select the “Comment” button. Before inputting comments, commenters may review the “Commenter's Checklist” (optional). To submit a comment: Insert comments under the “Comment” title, click “Browse” to attach files (if available), input email address, select box to opt to receive email confirmation of submission and tracking (optional), select the box “I'm not a robot,” and then select “Submit Comment.” Information on using Regulations.gov, including instructions for accessing documents, submitting comments, and viewing the docket after the close of the comment period, is available through the site's “FAQ” link. All comments will be available for public inspection online at the Federal eRulemaking Portal (www.regulations.gov).

FOR FURTHER INFORMATION CONTACT: Teresa Hunkapiller, Grants Management Specialist, Office of Loan Origination and Approval, RUS, USDA, 1400 Independence Avenue SW, Mail Stop 1590, Room 4121-S, Washington, DC 20250-1590, or call (202) 720-0800, or email dltinfo@usda.gov.

SUPPLEMENTARY INFORMATION:

Background

The DLT program is authorized under 7 U.S.C. 950aaa and implemented by 7 CFR part 1734. Applicants must adhere to the requirements contained in the program regulation, 7 CFR 1734. Important terms related to the program are identified in 7 CFR 1734.3.

The purpose of the DLT grant program is to encourage and improve telemedicine services and distance learning services in rural areas through the use of telecommunications, computer networks, and related advanced technologies by students, teachers, medical professionals, and rural residents. These grants are intended to increase rural access to education, training, and health care resources that are otherwise unavailable or limited in scope. The DLT program is currently a grant only program and the grant funds are awarded through a nationally competitive process.

Instructions

Response to this notice is voluntary. Each individual or institution is requested to submit only one response as directed in the ADDRESSES section of this notice. Submission must not exceed 10 pages and fonts must be 12 point or larger, with a page number on each page. Responses should include the name of the person(s) or organization(s) filing the comment. Comments containing references, studies, research, and other empirical data that are not widely published should include copies or electronic links of the referenced materials. Comments containing profanity, vulgarity, threats, or other inappropriate language or content will not be considered. Comments submitted in response to this notice are subject to disclosure under the Freedom of Information Act (FOIA) (5 U.S.C. 552). Responses to this notice may also be posted, without change, on a Federal website.

Therefore, we request that no business proprietary information, copyrighted information, or personally identifiable information be submitted in response to this notice. In accordance with FAR 52-215-3(b), responses to this notice are not offers and cannot be accepted by the Government to form a binding contract. Additionally, the U.S. Government will not pay for response preparation or for the use of any information contained in the response.

To inform the Federal Government's decision-making, RUS now seeks public input on the following questions.

1. RUS outlines DLT Program eligibility requirements in 7 CFR 1734. What DLT Program requirements limit or improve project eligibility?

2. What integral equipment or software technologies are not currently eligible for funding with the DLT program?

3. The authorizing statue allows for funds to be used to purchase or support audio, video, and interactive video equipment, broadband facilities used for distance learning or telemedicine, computer hardware, network components, and software, instructional programming and limited technical assistance. What emerging technological advances in equipment and software have the potential to change how DLT services are delivered in rural areas?

4. What has been your experience with accessing DLT funding?

Non-Discrimination Statement

In accordance with Federal civil rights laws and U.S. Department of Agriculture (USDA) civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the 711 Relay Service.

To file a program discrimination complaint, a complainant should complete a Form AD-3027, USDA Program Discrimination Complaint Form, which can be obtained online at www.usda.gov/sites/default/files/documents/ad-3027.pdf from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

Christopher A. McLean,
Acting for the Administrator, Rural Utilities Service.

[FR Doc. 2024-11400 Filed 5-24-24; 8:45 am]

BILLING CODE 3410-15-P